DEPARTMENT OF COMMERCE

International Trade Administration

[A-570-890]

Wooden Bedroom Furniture From the People's Republic of China: Extension of the Time Limit for the Preliminary Results of the Antidumping Duty Administrative Review

AGENCY: Import Administration, International Trade Administration, Department of Commerce.

DATES: September 15, 2010.

FOR FURTHER INFORMATION CONTACT: Jeff Pedersen, AD/CVD Operations, Import Administration, International Trade Administration, U.S. Department of Commerce, 14th Street and Constitution Avenue, NW., Washington, DC 20230, telephone: (202) 482-2769.

SUPPLEMENTARY INFORMATION: On March 4, 2010, the Department of Commerce (“Department”) published a notice of initiation of an administrative review of the antidumping duty order on wooden bedroom furniture from the People's Republic of China. See Initiation of Administrative Review of the Antidumping Duty Order on Wooden Bedroom Furniture From the People's Republic of China, 75 FR 9869 (March 4, 2010). The period of review is January 1, 2009, through December 31, 2009. The preliminary results of the administrative review are currently due no later than October 4, 2010.

Extension of Time Limit for Preliminary Results

Pursuant to section 751(a)(3)(A) of the Tariff Act of 1930, as amended (the “Act”), the Department shall make a preliminary determination in an administrative review of an antidumping duty order within 245 days after the last day of the anniversary month of the date of publication of the order. However, if it is not practicable to complete the review within this time period, section 751(a)(3)(A) of the Act allows the Department to extend the time period to a maximum of 365 days. Completion of the preliminary results of this review within the 245-day period is not practicable because the Department needs additional time to analyze information pertaining to the respondents' sales practices, factors of production, and corporate relationships, and to issue and review responses to supplemental questionnaires. Therefore, in accordance with section 751(a)(3)(A) of the Act, the Department is fully extending the time period for completing the preliminary results of the instant administrative review until January 30, 2011. However, January 30, 2011, falls on a Sunday, and it is the Department's long-standing practice to issue a determination on the next business day when the statutory deadline falls on a weekend. See Notice of Clarification: Application of “Next Business Day” Rule for Administrative Determination Deadlines Pursuant to the Tariff Act of 1930, As Amended, 70 FR 24533 (May 10, 2005). Accordingly, the deadline for completion of the preliminary results of the review is now no later than January 31, 2011. The final results continue to be due 120 days after the publication of the preliminary results.

This notice is published pursuant to sections 751(a) and 777(i) of the Act.

September 9, 2010.
Susan H. Kuhbach,
Acting Deputy Assistant Secretary, for Antidumping and Countervailing Duty Operations.

[FR Doc. 2010-23000 Filed 9-14-10; 8:45 am]

BILLING CODE 3510-DS-P